OFFICE OF PERSONNEL MANAGEMENT

5 CFR Part 724

RIN 3206-AK55

Implementation of Title II of the Notification and Federal Employee Antidiscrimination and Retaliation Act of 2002—Reporting and Best Practices

AGENCY: Office of Personnel Management.

ACTION: Proposed rule; reopening of comment period.

SUMMARY: On January 25, 2006, the Office of Personnel Management (OPM) issued proposed rules regarding the reporting and best practices requirements of Title II of the No FEAR Act (71 FR 4053). The proposed rule contained a 60-day comment period. In response to requests by the No Fear Coalition and Members of Congress to extend the comment period, OPM has reopened the initial comment period until May 1, 2006.

DATES: Comments must be received on or before May 1, 2006.

ADDRESSES: Send or deliver written comments to Ana A. Mazzi, Deputy Associate Director for Workforce Relations and Accountability Policy, Office of Personnel Management, Room 7H28, 1900 E Street, NW., Washington, DC 20415; by FAX at (202) 606-2613; or by e-mail at NoFEAR@opm.gov.

FOR FURTHER INFORMATION CONTACT: Gary D. Wahlert by telephone at (202) 606-2930; by FAX at (202) 606-2613; or by e-mail at NoFEAR@opm.gov.

Office of Personnel Management.
Linda M. Springer,
Director.

[FR Doc. 06-3166 Filed 3-29-06; 1:13 pm]

BILLING CODE 6325-39-P